DEPARTMENT OF COMMERCE

National Oceanic and Atmospheric Administration

[I.D. 040904B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Research Steering and Joint Enforcement Oversight Committee and Advisory Panel in April and May, 2004 to consider actions affecting New England fisheries in the exclusive economic zone (EEZ). Recommendations from these groups will be brought to the full Council for formal consideration and action, if appropriate.

DATES: The meetings will be held on April 30, 2004 and May 4, 2004. See SUPPLEMENTARY INFORMATION for specific dates and times.

ADDRESSES: The meetings will be held in Wakefield and Newburyport, MA. See SUPPLEMENTARY INFORMATION for specific locations.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Meeting Dates and Agendas

Friday, April 30, 2004 at 9:30 a.m. Research Steering Committee Meeting.

Location: Sheraton Colonial, One Audubon Road, Wakefield, MA 01880; telephone: (781) 245-9300.

The Research Steering Committee will hear an informal presentation on the status of NOAA Fisheries cooperative cod tagging program and review project objectives. The Committee will also complete work on a policy to incorporate new research results into the management process and initiate a discussion on the disposition of catch and the use of days-at-sea when vessels are engaged in cooperative research. They will address the possibility of allowing the use of B-days, as defined in Amendment 13 to the Northeast Multispecies Fishery Management Plan, for cooperative research purposes. Finally, the Committee will develop a list of priorities and activities for 2004.

Tuesday, May 4, 2004 at 9:30 a.m. Joint Enforcement Oversight Committee and Advisory Panel Meeting.

Location: New England Fishery Management Council Office, 50 Water Street, Newburyport, MA 01950; telephone: (978) 465-0492.

The Enforcement Committee and Advisors will review the current penalty schedule, and make recommendations with respect to egregious violations.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: April 12, 2004.
Alan D. Risenhoover,
Acting Director, Office of Sustainable Fisheries, National Marine Fisheries Service.

[FR Doc. E4-854 Filed 4-14-04; 8:45 am]

BILLING CODE 3510-22-S